DEPARTMENT OF EDUCATION

[Docket No.: ED-2024-SCC-0086]

Agency Information Collection Activities; Submission to the Office of Management and Budget for Review and Approval; Comment Request; Expanding Opportunity Through Quality Charter Schools Program: Technical Assistance To Support Monitoring, Evaluation, Data Collection, and Dissemination of Best Practices

AGENCY: Office of Elementary and Secondary Education (OESE), Department of Education (ED).

ACTION: Notice.

SUMMARY: In accordance with the Paperwork Reduction Act (PRA) of 1995, the Department is proposing a new information collection request (ICR).

DATES: Interested persons are invited to submit comments on or before October 11, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Andrew Brake, (202) 453-6136.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Expanding Opportunity through Quality Charter Schools Program: Technical Assistance to Support Monitoring, Evaluation, Data Collection, and Dissemination of Best Practices.

OMB Control Number: 1810-NEW.

Type of Review: New ICR.

Respondents/Affected Public: State, Local, and Tribal Governments.

Total Estimated Number of Annual Responses: 110.

Total Estimated Number of Annual Burden Hours: 172.

Abstract: This request is for a new OMB approval to collect data necessary to support the following: Charter School Programs (CSP) Data Collection, Risk Assessment, and Monitoring. This collection will replace previously approved 1855-0016 collection in order to obtain a new OMB number that is associated with the sub-agency this collection has moved to following a reorganization. The collection of information is still necessary in order to perform data collection, data analysis, risk assessment, and grantee monitoring for the CSP. However, the number of respondents is expected to decrease over the life of this collection, as new grantees (from FY 2022 onward) use the Charter Online Management and Performance System (COMPS) for their reporting (OMB Control Numbers 1810-0781 through 1810-0787). This collection will remain in place for the older grantees that still have active CSP grants.

This data collection is coordinated with the EDFacts Initiative (EDFacts) to reduce respondent burden and fully utilize data submitted by States and available to the U.S. Department of Education (ED) through the EDFacts database. Specifically, under the current data collection, ED collects CSP grant award information from grantees (State agencies, charter management organizations, and some schools) to create a new database of current CSP-funded charter schools and award amounts. Once complete, ED merges performance information extracted from the EDFacts database with the database of CSP-funded charter schools. Together, these data allow ED to monitor CSP grant performance and analyze data related to accountability for academic performance, financial integrity, and program effectiveness.

Dated: September 5, 2024.
Kun Mullan,
PRA Coordinator, Strategic Collections and Clearance, Governance and Strategy Division, Office of Chief Data Officer, Office of Planning, Evaluation and Policy Development.

[FR Doc. 2024-20430 Filed 9-10-24; 8:45 am]

BILLING CODE 4000-01-P